FARM CREDIT ADMINISTRATION

12 CFR Parts 609, 611, 612, 614, 615, and 617

RIN 3052-AB69

Electronic Commerce; Organization; Standards of Conduct and Referral of Known or Suspected Criminal Violations; Loan Policies and Operations; Funding and Fiscal Affairs, Loan Policies and Operations, and Funding Operations; Borrower Rights

AGENCY: Farm Credit Administration.

ACTION: Correcting amendment.

SUMMARY: The Farm Credit Administration (FCA) published a document in the Federal Register on March 9, 2004 (69 FR 10901, clarifying the rights provided in the Farm Credit Act of 1971, as amended, for loan applicants and borrowers of the Farm Credit System (System) and explaining the responsibilities of the System in providing these rights, responding to comments, and placing all borrower rights provisions in one part of our regulations. That document failed to include a necessary nomenclature change to § 609.930(i). This document corrects the final regulations by revising this section.

DATES: Effective on July 19, 2004.

FOR FURTHER INFORMATION CONTACT: Mark L. Johansen, Senior Policy Analyst, Office of Policy and Analysis, Farm Credit Administration, McLean, VA 22102-5090, (703) 883-4479, TTY (703) 883-4434; or Joy Strickland, Senior Counsel, Office of General Counsel, Farm Credit Administration, McLean, VA 22102-5090, (703) 883-4020, TTY (703) 883-2020.

SUPPLEMENTARY INFORMATION: The final rule published on March 9, 2004 (69 FR 10901) redesignated existing part 617 as a newly designated subpart B in part 612. Because of this redesignation, a nomenclature change in § 609.930(i) should have been included in the final rule.

List of Subjects

12 CFR Part 609

Agriculture, Banks, banking, Electronic commerce, Reporting and recordkeeping requirements, Rural areas.

12 CFR Part 611

Agriculture, Banks, banking, Rural areas.

12 CFR Part 612

Agriculture, Banks, banking, Conflict of interests, Rural areas.

12 CFR Part 614

Agriculture, Banks, banking, Flood insurance, Foreign trade, Reporting and recordkeeping requirements, Rural areas.

12 CFR Part 615

Accounting, Agriculture, Banks, banking, Government securities, Investments, Rural areas.

12 CFR Part 617

Banks, banking, Criminal referrals, Criminal transactions, Embezzlement, Insider abuse, Investigations, Money laundering, Theft.

Accordingly, 12 CFR part 609 is corrected by making the following correcting amendment:

PART 609—ELECTRONIC COMMERCE

1. The authority citation for part 609 continues to read as follows:

Authority: Sec. 5.9 of the Farm Credit Act (12 U.S.C. 2243); 5 U.S.C. 301; Pub. L. 106-229 (114 Stat. 464).

§ 609.930 [Corrected]

2. Section 609.930(i) is corrected by removing the reference “617” and adding in its place “612, subpart B”.

Dated: July 14, 2004.
Jeanette C. Brinkley,
Secretary, Farm Credit Administration Board.

[FR Doc. 04-16379 Filed 7-16-04; 8:45 am]

BILLING CODE 6705-01-P